ENVIRONMENTAL PROTECTION AGENCY

[ER-FRL-6697-1]

Environmental Impacts Statements; Notice of Availability

Responsible Agency: Office of Federal Activities, General Information (202) 564-7167 or http://www.epa.gov/compliance/nepa/.

Weekly receipt of Environmental Impact Statements filed 03/10/2008 through 03/14/2008. Pursuant to 40 CFR 1506.9.

EIS No. 20080090, Draft EIS, BIA, CA, Enterprise Rancheria Gaming Facility and Hotel Fee-To-Trust Acquisition Project, Implementation, Federal Trust, Estom Yumeka Maida Tribe, Yuba County, CA, Comment Period Ends: 05/05/2008, Contact: John Rydzik, 916-978-6042.

EIS No. 20080091, Draft EIS, AFS, WY, Winter Elk Management Programs, Long-Term Special Use Authorization for Wyoming Game and Fish Commission to use National Forest System Land within the Bridger-Teton National Forest at Alkali Creek, Dog Creek, Fall Creek, Fish Creek, Muddy Creek, Patrol Cabin, and Upper Green River, Jackson and Sublette, WY, Comment Period Ends: 05/05/2008, Contact: Greg Clark, 307-276-5810.

EIS No. 20080092, Draft EIS, BIA, MT, Absaloka Mine Crow Reservation South Extension Coal Lease Approval, Proposed Mine Development Plan, and Related Federal and State Permitting Actions, Crow Indian Reservation, Crow Tribe, Bighorn County, MT, Comment Period Ends: 05/05/2008, Contact: George Gover, 406-638-2672.

EIS No. 20080093, Final Supplement, AFS, ID, Meadow Face Stewardship Pilot Project, Improvement to Aquatic and Terrestrial Vegetative Conditions, Supplement Information on the Cumulative Effects Analysis, Nez Perce National Forest, Clearwater Ranger District, Idaho County, ID, Wait Period Ends: 04/21/2008, Contact: Darcy Pederson, 208-983-1950.

EIS No. 20080094, Final Supplement, AFS, ID, North Sheep Allotments—Sheep and Goat Allotment Management Plans, Additional Information on Analyses Concerning Management Indicator Species, Capable and Suitable Grazing Lands, and Adaptive Management Strategies, Authorization of Continued Sheep Grazing for Fisher Creek, Smiley Creek, North Fork-Boulder and Baker Creek Sheep and Goat Grazing Allotments, Sawtooth National Forest, Ketchum Ranger District, Sawtooth National Recreation Area, Blaine and Custer Counties, ID, Wait Period Ends: 04/21/2008, Contact: Carol Brown, 208-727-5000.

EIS No. 20080095, Draft EIS, NOA, OR, Bull Run Water Supply Habitat Conservation Plan, Application for and Incidental Take Permit to cover the Continued Operation and Maintenance, Sandy River Basin, City of Portland, OR, Comment Period Ends: 05/27/2008, Contact: D. Robert Lohn, 503-231-6269.

EIS No. 20080096, Draft Supplement, NOA, CA, Cordell Bank, Gulf of the Farallones and Monterey Bay National Marine Sanctuaries, Updated Information, Proposes a Series of Regulatory Changes, Offshore of Northern/Central, CA, Comment Period Ends: 05/05/2008, Contact: Sean Morton, 301-713-7264.

EIS No. 20080097, Final EIS, FRC, CA, Upper American River Hydroelectric FERC No. 2101-084, El Dorado and Sacramento Counties, CA and Chili Bar Hydroelectric FERC No. 2155-024, El Dorado County, CA, Issuance of a New License for the Existing and Proposed Hydropower Projects., Wait Period Ends: 04/21/2008, Contact: Andy Black, 1-866-208-3372.

EIS No. 20080098, Final Supplement, USA, TX, Central City Project, Proposed Modification to the Authorized Projects which provides Flood Damage Reduction, Habitat Improvement, Recreation and Urban Revitalization, Upper Trinity River Central City, Upper Trinity River Basin, Trinity River, Fort Worth,TX, Wait Period Ends: 04/21/2008, Contact: Saji Alummuttil, 817-886-1764.

EIS No. 20080099, Final EIS, FHW, NC, US 74 Shelby Bypass Transportation Improvements, Preferred Alternative is 21, Construction, Funding and COE Section 404 Permit, Cleveland County, NC, Wait Period Ends: 05/02/2008, Contact: John F. Sullivan III, 919-856-4346.

EIS No. 20080100, Final EIS, AFS, ID, Aspen Range Timber Sale and Vegetation Treatment Project, New Updated Version, Preferred Alternative is 5, Proposal to Treat Forested and Nonforested Vegetation, Caribou-Targhee National Forest, Soda Springs Ranger District, Caribou County, ID, Wait Period Ends: 04/21/2008, Contact: Doug Heyrend, 208-547-4356.

Amended Notices

EIS No. 20070137, Final EIS, AFS, ID, WITHDRAWN—Aspen Range Timber Sale and Vegetation Treatment Project, Preferred Alternative is 5, Proposal to Treat Forested and Nonforested Vegetation, Caribou-Targhee National Forest, Soda Springs Ranger District, Caribou County, ID, Wait Period Ends: 05/14/2007, Contact: Doug Heyrend, 208-547-4356. Revision for FR Published 04/13/2007: Official Withdrawn by Agency.

Dated: March 18, 2008.
Robert W. Hargrove,
Director, NEPA Compliance Division, Office of Federal Activities.

[FR Doc. E8-5753 Filed 3-20-08; 8:45 am]

BILLING CODE 6560-50-P